ENVIRONMENTAL PROTECTION AGENCY

[FRL-OW-6903-2]

Notice of Intent To Develop Ambient Water Quality Criteria for Protection of Human Health—Methylmercury; Notice of Reopening to Public Comment Period

AGENCY: Environmental Protection Agency (EPA).

ACTION: Notice of reopening to public comment period.

SUMMARY: This notice informs the public that the period for the submission of scientific and technical information for the development of the revised Ambient Water Quality Criterion for Methylmercury is extended.

DATES: The comment period has been extended fifteen days to November 27, 2000.

ADDRESSES: Send an original and three copies of any written significant scientific information to W-00-29 Comment Clerk, Water Docket, Ariel Rios 1200 Pennsylvania Ave., N.W. Washington, D.C. 20460. Comments may be hand-delivered to the Water Docket, Room EB57, 401 M Street, SW, Washington, D.C. 20460. Issues may also be submitted electronically to OW-Docket@epa.gov. Information should be submitted as a WP5.1, 6.1 and/or 8.0 or an ASCII file with no form of encryption.

FOR FURTHER INFORMATION CONTACT: Ms. Mary Manibusan, Health and Ecological Criteria Division (4304), US EPA, Ariel Rios Building, 1200 Pennsylvania Avenue NW, Washington, D.C. 20460; (202) 260-3688; manibusan.mary@epa.gov

SUPPLEMENTARY INFORMATION: The Environmental Protection Agency published in the Federal Register of October 12, 2000 (65 FR 60664), that scientific and technical information that pertains to the development of a revised Ambient Water Quality Criterion for Methylmercury should be received within 30 days of the Federal Register publication date of October 12, 2000. In response to public interest, the Environmental Protection Agency has granted a fifteen day extension to the public comment period.

Geoffrey H. Grubbs,
Director, Office of Science and Technology.

[FR Doc. 00-29504 Filed 11-16-00; 8:45 am]

BILLING CODE 6560-50-P